DEPARTMENT OF TRANSPORTATION

Federal Aviation Administration

14 CFR Part 39

[Docket No. FAA-2018-0326; Product Identifier 2018-CE-006-AD]

RIN 2120-AA64

Airworthiness Directives; SOCATA Airplanes

AGENCY: Federal Aviation Administration (FAA), Department of Transportation (DOT).

ACTION: Notice of proposed rulemaking (NPRM).

SUMMARY: We propose to supersede Airworthiness Directive (AD) 98-16-03 for SOCATA Models TB 9 and TB 10 airplanes. This proposed AD results from mandatory continuing airworthiness information (MCAI) originated by an aviation authority of another country to identify and correct an unsafe condition on an aviation product. The MCAI describes the unsafe condition as fatigue cracking of the wing front attachments on the wing and fuselage sides. We are issuing this proposed AD to require actions to address the unsafe condition on these products.

DATES: We must receive comments on this proposed AD by June 25, 2018.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For service information identified in this proposed AD, contact SOCATA, Direction des services, 65921 Tarbes Cedex 9, France; phone: +33 (0) 5 62 41 73 00; fax: +33 (0) 5 62 41 76 54; email: info@socata.daher.com; internet: https://www.mysocata.com/login/accueil.php. You may review copies of the referenced service information at the FAA, Policy and Innovation Division, 901 Locust, Kansas City, Missouri 64106. For information on the availability of this material at the FAA, call (816) 329-4148.

Examining the AD Docket

You may examine the AD docket on the internet at http://www.regulations.gov by searching for and locating Docket No. FAA-2018-0326; or in person at Docket Operations between 9 a.m. and 5 p.m., Monday through Friday, except Federal holidays. The AD docket contains this proposed AD, the regulatory evaluation, any comments received, and other information. The street address for Docket Operations (telephone (800) 647-5527) is in the ADDRESSES section. Comments will be available in the AD docket shortly after receipt.

FOR FURTHER INFORMATION CONTACT: Albert Mercado, Aerospace Engineer, FAA, Small Airplane Standards Branch, 901 Locust, Room 301, Kansas City, Missouri 64106; telephone: (816) 329-4119; fax: (816) 329-4090; email: albert.mercado@faa.gov.

SUPPLEMENTARY INFORMATION:

Comments Invited

We invite you to send any written relevant data, views, or arguments about this proposed AD. Send your comments to an address listed under the ADDRESSES section. Include “Docket No. FAA-2018-0326; Product Identifier 2018-CE-006-AD” at the beginning of your comments. We specifically invite comments on the overall regulatory, economic, environmental, and energy aspects of this proposed AD. We will consider all comments received by the closing date and may amend this proposed AD because of those comments.

We will post all comments we receive, without change, to http://regulations.gov, including any personal information you provide. We will also post a report summarizing each substantive verbal contact we receive about this proposed AD.

Discussion

We issued AD 98-16-03, Amendment 39-10677 (63 FR 40359; July 29, 1998). That AD required actions intended to address an unsafe condition on SOCATA Models TB 9 and TB 10 airplanes and was based on mandatory continuing airworthiness information (MCAI) originated by an aviation authority of another country.

Since we issued AD 98-16-03, SOCATA developed improved repair procedures and increased the applicability to include Model TB 200 airplanes.

The European Aviation Safety Agency (EASA), which is the Technical Agent for the Member States of the European Community, has issued EASA AD No. 2018-0030, dated January 31, 2018 (referred to after this as “the MCAI”), to correct an unsafe condition for the specified products. The MCAI states:

During a scheduled maintenance inspection, cracks were found on the wing front attachments of a TB 10 aeroplane.

This condition, if not detected and corrected, could affect the structural integrity of the aeroplane.

Prompted by these findings, SOCATA issued SB 10-081-57 to provide inspection and modification instructions, and DGAC France issued AD 94-264(A), later revised, to require repetitive inspections of wing front attachments of TB 9 and TB 10 aeroplanes (all MSN up to 822 inclusive, with some excluded). That [DGAC France] AD also required installation of reinforcement kits, applied as repair (if cracks were found) or as modification (if no cracks were found), of the wing front attachments, on both wing and fuselage sides, and repetitive replacement of those reinforcements afterwards.

Since DGAC France AD 94-264(A) R1 was issued, cracks have been found on wing front attachments, on the wing side, on TB10 aeroplanes to which the AD did not apply, i.e. which were not subject to repetitive inspections as required by that [DGAC France] AD. Consequently, SOCATA revised SB 10-081-57 (now at revision (rev) 3), extending the Applicability to all TB 10 aeroplanes, as well as to TB 200 aeroplanes, and improving the repair solution of the wing front attachment on wing side.

For the reason described above, this [EASA] AD retains the requirements of DGAC France AD 94-264(A) R1, which is superseded, expands the Applicability to all MSN for TB 9 and TB 10 aeroplanes and includes TB 200 aeroplanes, and requires an improved repair solution of the wing front attachment on wing side.

You may examine the MCAI on the internet at http://www.regulations.gov by searching for and locating Docket No. FAA-2018-0326.

Related Service Information Under 1 CFR Part 51

SOCATA has issued Daher Service Bulletin SB 10-081, Revision 3, dated December 2017. The service bulletin describes procedures for inspecting the front attachments and installing modification kits. This service information is reasonably available because the interested parties have access to it through their normal course of business or by the means identified in the ADDRESSES section of this NPRM.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Costs of Compliance

We estimate that this proposed AD will affect 126 products of U.S. registry. We also estimate that it would take about 3 work-hours per product to comply with the inspection requirements of this proposed AD. We also estimate that it would take about 25 work-hours per product to comply with the replacement/modification (wing and fuselage sides) requirements of this proposed AD. The average labor rate is $85 per work-hour. Required parts would cost about $3,000 per product.

Based on these figures, we estimate the cost of the proposed AD on U.S. operators to be $677,880, or $5,380 per product.

In addition, we estimate that any necessary follow-on actions to replace the wing attachment on the wing side, resulting from the repetitive inspections, would take about 9 work-hours and require parts costing $3,000, for a cost of $3,765 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to small airplanes, gliders, balloons, airships, domestic business jet transport airplanes, and associated appliances to the Director of the Policy and Innovation Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 98-16-03, Amendment 39-10677 (63 FR 40359; July 29, 1998), and adding the following new AD:

SOCATA: Docket No. FAA-2018-0326; Product Identifier 2018-CE-006-AD.

(a) Comments Due Date

We must receive comments by June 25, 2018.

(b) Affected ADs

This AD replaces AD 98-16-03, Amendment 39-10677 (63 FR 40359; July 29, 1998) (“AD 98-16-03”).

(c) Applicability

This AD applies to SOCATA airplanes listed in the following groups, certificated in any category:

(1) Group 1 airplanes: Model TB 9, all manufacturer serial numbers (MSN); and Model TB 10, MSN 001 through 803, 805, 806, 809 through 815, and 820 through 822; and

(2) Group 2 airplanes: Model TB 10, MSN 804, 807, 808, 816 through 819, and 823 through 2229; and Model TB 200, all MSNs.

(d) Subject

Air Transport Association of America (ATA) Code 57: Wings.

(e) Reason

This AD was prompted by mandatory continuing airworthiness information (MCAI) originated by an aviation authority of another country to identify and correct an unsafe condition on an aviation product. The MCAI describes the unsafe condition as fatigue cracking of the wing front attachments on the wing and fuselage sides. We are issuing this AD to prevent fatigue cracking of the wing front attachments, which could lead to structural failure of the airplane and loss of control.

(f) Compliance

Unless already done, do the following actions listed in paragraphs (g) through (j) of this AD. The compliance times of this AD are presented in landings instead of hours time-in-service (TIS). If the number of landings is unknown, multiply the number of hours TIS by 1.5. For the purposes of this AD, “XX” can be any numerical value.

(g) Actions for Airplanes NOT EQUIPPED With Modification Kit OPT109110XX

(1) Within the compliance time specified in table 1 to paragraph (g)(1) of this AD, do an initial inspection of the wing front attachments on the wing side. Inspect repetitively thereafter at intervals not to exceed 3,000 landings. Follow the Description of Accomplishment Instructions in SOCATA Daher Service Bulletin SB 10-081, Revision 3, December 2017.

(2) If a crack was found during any inspection required in paragraph (g)(1) of this AD, before further flight, install the modification reinforcement kit OPT10911002 for the front attachment on the wing side following the Description of Accomplishment Instructions in SOCATA Daher Service Bulletin SB 10-081, Revision 3, December 2017.

(3) Within the compliance time specified in table 2 to paragraph (g)(3) of this AD, unless already done as corrective action as specified in paragraph (g)(2) of this AD, install the modification reinforcement kit OPT10911002 for the front attachment on the wing side following the Description of Accomplishment Instructions in SOCATA Daher Service Bulletin SB 10-081, Revision 3, December 2017.

(h) Actions for Airplanes EQUIPPED With Modification Kit OPT109110XX

(1) Within the compliance time specified in table 3 to paragraph (h)(1) of this AD, do an initial inspection of the reinforced front attachment on the wing side. Inspect repetitively thereafter at intervals not to exceed 3,000 landings. Follow the Description of Accomplishment Instructions in SOCATA Daher Service Bulletin SB 10-081, Revision 3, December 2017.

(2) Replacing kit OPT109110XX with kit OPT10911002 on an airplane, at intervals not to exceed 6,000 landings is acceptable to comply with the inspection requirements of paragraph (h)(1) of this AD for that airplane. Follow the Description of Accomplishment Instructions in SOCATA Daher Service Bulletin SB 10-081, Revision 3, December 2017.

(3) If a crack was found during any inspection required in paragraph (h)(1) of this AD, before further flight, do the applicable corrective actions following the Description of Accomplishment Instructions in SOCATA Daher Service Bulletin SB 10-081, Revision 3, December 2017.

(i) Actions for Group 1 Airplanes

(1) Within the compliance time specified in table 4 to paragraph (i)(1) of this AD, do an initial inspection of the wing front attachments on the fuselage side. Inspect repetitively thereafter at intervals not to exceed 3,000 landings. Follow the Description of Accomplishment Instructions in SOCATA Daher Service Bulletin SB 10-081, Revision 3, December 2017.

(2) If a crack was found during any inspection required in paragraph (i)(1) of this AD, before further flight, do the applicable corrective actions following the Description of Accomplishment Instructions in SOCATA Daher Service Bulletin SB 10-081, Revision 3, December 2017.

(3) Unless already done as corrective action required in paragraph (i)(2) of this AD, within the compliance time specified in table 5 to paragraph (i)(3) of this AD, reinforce the front attachment on fuselage side following the Description of Accomplishment Instructions in SOCATA Daher Service Bulletin SB 10-081, Revision 3, December 2017.

(4) Before or upon accumulating 12,000 landings after the reinforcement modification required in paragraph (i)(2) or (3) of this AD, replace the reinforced front attachment on the fuselage side following the Description of Accomplishment Instructions in SOCATA Daher Service Bulletin SB 10-081, Revision 3, December 2017.

(j) Replacement of the Reinforced Front Attachment

Replacement of the reinforced front attachment on the wing side and/or replacement of the reinforced front attachment on the fuselage side, does not terminate the inspections required in paragraphs (h)(1) and (i)(1) of this AD. After replacement, the initial and repetitive inspection cycle starts over.

(k) Credit for Previous Actions

This AD allows credit for the initial inspection required in paragraphs (g)(1) and (i)(1) of this AD and any replacement that may have been required based on the initial inspection, if done before the effective date of this AD, following Socata Service Bulletin No. SB 10-081-57, Revison 1, dated August 1996 or Revision 2, dated January 2017. Any inspections or replacements done after the effective date must be done following SOCATA Daher Service Bulletin SB 10-081, Revision 3, December 2017 as specified in the Actions and Compliance of this AD.

(l) Other FAA AD Provisions

The following provisions also apply to this AD:

(1) Alternative Methods of Compliance (AMOCs): The Manager, Small Airplane Standards Branch, FAA, has the authority to approve AMOCs for this AD, if requested using the procedures found in 14 CFR 39.19. Send information to ATTN: Albert Mercado, Aerospace Engineer, FAA, Small Airplane Standards Branch, 901 Locust, Room 301, Kansas City, Missouri 64106; telephone: (816) 329-4119; fax: (816) 329-4090; email: albert.mercado@faa.gov. Before using any approved AMOC on any airplane to which the AMOC applies, notify your appropriate principal inspector (PI) in the FAA Flight Standards District Office (FSDO), or lacking a PI, your local FSDO.

(2) Contacting the Manufacturer: For any requirement in this AD to obtain corrective actions from a manufacturer, the action must be accomplished using a method approved by the Manager, Small Airplane Standards Branch, FAA; or the European Aviation Safety Agency (EASA).

(m) Related Information

Refer to MCAI EASA No. 2018-0030, dated January 31, 2018; and Daher Service Bulletin SB 10-081, Revision 3, dated December 2017, for related information. You may examine the MCAI on the internet at http://www.regulations.gov by searching for and locating Docket No. FAA-2018-0326. For service information related to this AD, contact SOCATA, Direction des services, 65921 Tarbes Cedex 9, France; phone: +33 (0) 5 62 41 73 00; fax: +33 (0) 5 62 41 76 54; email: info@socata.daher.com; internet: https://www.mysocata.com/login/accueil.php. You may review copies of the referenced service information at the FAA, Policy and Innovation Division, 901 Locust, Kansas City, Missouri 64106. For information on the availability of this material at the FAA, call (816) 329-4148.

Issued in Kansas City, Missouri, on April 30, 2018.
Melvin J. Johnson,
Deputy Director, Policy & Innovation Division, Aircraft Certification Service.

[FR Doc. 2018-09602 Filed 5-8-18; 8:45 am]

BILLING CODE 4910-13-P